DEPARTMENT OF AGRICULTURE

Forest Service

Siskiyou County Resource Advisory Committee

AGENCY: Forest Service, USDA.

ACTION: Notice of meeting.

SUMMARY: The Siskiyou County Resource Advisory Committee (RAC) will meet in Yreka, California to conduct routine business associated with requesting proposals consistent with the Secure Rural Schools and Community Self-Determination Act.

DATES: All meetings will be held on the third Monday of each month in calendar year 2009 beginning March 16, 2009. Meetings will convene at 4 p.m. and adjourn as near to 6 p.m. as possible.

ADDRESSES: The meeting will be held at the Yreka High School Library, Preece Way, Yreka, California.

FOR FURTHER INFORMATION CONTACT: Davida Carnahan, Forest RAC coordinator, Klamath National Forest, (530) 841-4485 or electronically at dcarnahan@fs.fed.us.

SUPPLEMENTARY INFORMATION: The meeting is open to the public. Public comment opportunity will be provided and individuals will have the opportunity to address the Committee at that time.

Dated: February 4, 2009.
Patrica A. Grantham,
Designated Federal Official.

[FR Doc. E9-3077 Filed 2-12-09; 8:45 am]

BILLING CODE 3410-11-M